DEPARTMENT OF HOMELAND SECURITY

Federal Emergency Management Agency

Agency Information Collection Activities: Submission for OMB Review; Comment Request

AGENCY: Federal Emergency Management Agency, Emergency Preparedness and Response Directorate, U.S. Department of Homeland Security

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: Community Rating System (CRS) Program Application Worksheets and Commentary.

OMB Number: 1660-0022.

Abstract: The Community Ratings System (CRS), designed by the Federal Emergency Management Agency as part of the National Flood Insurance Program (NFIP), provides flood insurance premium discounts to communities that undertake activities that will mitigate flooding and flood damage beyond the minimum standards required by the NFIP. Communities select approved activities they want to get credit for either as a first time or continuing participant.

Affected Public: State, local or tribal governments.

Number of Respondents: 1,200 respondents/communities.

Estimated Time per Respondent: 31 hours for the Application and 4 hours for the Annual Recertification for a total of 35 hours.

Estimated Total Annual Burden Hours: 11,280 hours.

Frequency of Response: Annually.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before July 28, 2005.

FOR FURTHER INFORMATION CONTACT: Requests for additional information or copies of the information collection should be made to: Section Chief, Records Management, FEMA at 500 C Street, SW., Room 316, Washington, DC 20472, facsimile number (202) 646-3347, or e-mail address FEMA-Information-Collections@dhs.gov.

Dated: June 20, 2005.
George S. Trotter,
Acting Branch Chief, Information Resources Management Branch, Information Technology Services Division.

[FR Doc. 05-12678 Filed 6-27-05; 8:45 am]

BILLING CODE 9110-11-P